SMALL BUSINESS ADMINISTRATION

[Disaster Declaration # 10324]

South Dakota Disaster # SD-00003

AGENCY: U.S. Small Business Administration.

ACTION: Notice.

SUMMARY: This is a Notice of the Presidential declaration of a major disaster for Public Assistance Only for the State of South Dakota (FEMA-1620-DR), dated 12/20/2005.

Incident: Severe Winter Storm.

Incident Period: 11/27/2005 through 11/29/2005.

Effective Date: 12/20/2005.

Physical Loan Application Deadline Date: 02/21/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 12/20/2005, applications for Private Non-Profit organizations that provide essential services of a governmental nature may file disaster loan applications at the address listed above or other locally announced locations.

The following areas have been determined to be adversely affected by the disaster:

Primary Counties:

Aurora, Beadle, Bon Homme, Brookings, Brown, Charles Mix, Clark, Codington, Davison, Day, Deuel, Douglas, Edmunds, Grant, Gregory, Hamlin, Hanson, Hutchinson, Jerauld, Kingsbury, Marshall, Miner, Roberts, Sanborn, Spink

The Interest Rates are:

| Percent
Other (including non-profit organizations) with credit available elsewhere | 5.000
Businesses and non-profit organizations without credit available elsewhere | 4.000

The number assigned to this disaster for physical damage is 10324.

(Catalog of Federal Domestic Assistance Number 59008).

Bridget M. Dusenbury,
Acting Associate Administrator for Disaster Assistance.

[FR Doc. E6-879 Filed 1-24-06; 8:45 am]

BILLING CODE 8025-01-P